DEPARTMENT OF HOMELAND SECURITY

Coast Guard

[Docket No. USCG-2013-0461]

National Offshore Safety Advisory Committee

AGENCY: United States Coast Guard, DHS.

ACTION: Notice of teleconference meeting.

SUMMARY: The National Offshore Safety Advisory Committee (NOSAC) will meet via teleconference to receive a Final Report from the Subcommittee on the Implementation of Standards from the International Labor Organization—Maritime Labour Convention of 2006, a task statement presented at the 17-18 April, 2013 NOSAC meeting. Upon committee approval, the final report will be presented to the Coast Guard for acceptance. Additionally the committee will reconvene the Subcommittee on commercial diving safety to consider recommendations for commercial diving operational standards. This teleconference meeting will be open to the public.

DATES: The teleconference meeting will take place on Tuesday June 25, 2013, from 11 a.m. to 2 p.m. EST. This teleconference meeting may end early if all business is finished before 2 p.m. If you wish to make oral comments at the teleconference meeting, simply notify Mr. Scott Hartley before the teleconference, as specified in the ADDRESSES section, or the designated Coast Guard staff at the meeting. If you wish to submit written comments or make a presentation, submit your comments or request to make a presentation by June 7, 2013.

ADDRESSES: The Committee will meet via teleconference. To participate by phone, contact the Alternate Designated Federal Officer (ADFO) listed below in the FOR FURTHER INFORMATION CONTACT section to obtain teleconference information. Note the number of teleconference lines is limited and will be available on a first-come, first-served basis. To join those participating in this teleconference from U.S. Coast Guard Headquarters, come to Room 5-1222, U.S. Coast Guard Headquarters Building, 2100 Second Street SW., Washington, DC 20593. You must present a valid, government-issued photo identification to gain entrance to the Coast Guard Headquarters building.

If you want to make a presentation, send your request by June 7, 2013, to Mr. Scott Hartley, NOSAC ADFO, telephone 202-372-1437, Commandant (CG-OES-2), 2100 Second Street SW., Stop 7126, Washington, DC 20593-7126 or by fax to 202-372-1926. To facilitate public participation we are inviting public comment on the issues to be considered by the committee as listed in the “AGENDA” section below. You may submit a written comment on or before June 7, 2013 or make an oral comment during the public comment portion of the teleconference.

To submit a comment in writing, use one of the following methods:

• Federal eRulemaking Portal: http://www.regulations.gov. Follow the instructions for submitting comments.

• Email: Scott.E.Hartley@uscg.mil. Include the docket number (USCG-2013-0461) on the subject line of the message.

• Fax: (202) 372-1925. Include the docket number (USCG-2010-0164) on the subject line of the fax.

• Mail: Docket Management Facility (M-30), U.S. Department of Transportation, West Building Ground Floor, Room W12-140, 1200 New Jersey Avenue SE., Washington, DC 20590-0001. We encourage use of electronic submissions because security screening may delay the delivery of mail.

• Hand Delivery: Same as mail address above, between 9 a.m. and 5 p.m., Monday through Friday, except Federal holidays. The telephone number is 202-366-9329.

• To avoid duplication, please use only one of the above methods.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this Notice, go to http://www.regulations.gov, insert USCG-2013-0461 in the Keyword ID box, press Enter, and then click on the item you are interested in viewing.

FOR FURTHER INFORMATION CONTACT: Commander Rob Smith, Designated Federal Official (DFO) of NOSAC, Commandant (CG-OES-2), U.S. Coast Guard, 2100 Second Street SW., Stop 7126, Washington, DC 20593-0001; telephone (202) 372-1410, fax (202) 372-1926, or Mr. Scott Hartley, Alternate Designated Federal Official (ADFO) of NOSAC, Commandant (CG-OES-2), U.S. Coast Guard, 2100 Second Street SW., Stop 7126, Washington, DC 20593-0001; telephone (202) 372-1437, fax (202) 372-1926. If you have questions on viewing or submitting material to the docket, call Barbara Hairston, Program Manager, Docket Operations, telephone 202-366-9826.

SUPPLEMENTARY INFORMATION: Notice of this meeting is given under the Federal Advisory Committee Act (FACA), 5 U.S.C. App. (Pub. L. 92-463). NOSAC provides advice and recommendations to the Department of Homeland Security on matters and actions concerning activities directly involved with or in support of the exploration of offshore mineral and energy resources insofar as they relate to matters within U.S. Coast Guard jurisdiction.

Agenda of Meeting

The agenda for June 25 is as follows:

(1) Presentation, discussion and acceptance of the final report from the Subcommittee on the Task Statement dealing with U.S. Implementation of Standards from International Labor Organization—Maritime Labour Convention of 2006 presented at the April 17 and 18, 2013 NOSAC meeting in New Orleans.

(2) Discussion of the reconvening of the Subcommittee on commercial diving safety to consider recommendations for improved commercial diving operational standards.

(3) Public comment.

The meeting agenda will be available on https://homeport.uscg.mil/nosac.

Public Participation

We have scheduled the last fifteen minutes of the meeting, scheduled to be from 1:45 to 2:00 p.m., for oral comments from the public. If you wish to make an oral comment, please contact Mr. Scott Hartley, listed in the FOR FURTHER INFORMATION CONTACT section, either before the meeting or at the meeting when the members of the audience are requested to state their interest in commenting. We request that you limit your oral comments to 3 minutes. Please note that this public comment period may start before 1:45 p.m. if all other agenda items have been covered and may end before 2:00 p.m. if all of those wishing to comment have done so.

For information on facilities or services for individuals with disabilities or to request special assistance at the teleconference, please contact the individuals listed in the FOR FURTHER INFORMATION CONTACT section, as soon as possible.

Dated: May 31, 2013.
J.G. Lantz,
Director of Commercial Regulations and Standards.

[FR Doc. 2013-13381 Filed 6-5-13; 8:45 am]

BILLING CODE 9110-04-P